COMMODITY FUTURES TRADING COMMISSION

Minneapolis Grain Exchange: Proposed Amendments to the Quality Specifications of the Durum Wheat Futures Contract

AGENCY: Commodity Futures Trading Commission.

ACTION: Notice of availability of proposed amendments to contract terms and conditions.

SUMMARY: The Minneapolis Grain Exchange (MGE or Exchange) has proposed amendments to the Exchange's durum wheat futures contract. The proposed amendments would revise the futures contract's quality specifications. The proposed amendments were submitted under the Commission's 45-day Fast Track procedures which provides that, absent any contrary action by the Commission, the proposed amendments may be deemed approved on February 24, 2000—45 days after the Commission's receipt of the proposals. The Acting Director of the Division of Economic Analysis (Division) of the Commission, acting pursuant to the authority delegated by Commission Regulation 140.96, has determined that publication of the proposed amendments is in the public interest, will assist the Commission in considering the views of interested persons, and is consistent with the purposes of the Commodity Exchange Act.

DATES: Comments must be received on or before February 25, 2000.

ADDRESSES: Interested persons should submit their views and comments to Jean A. Webb, Secretary, Commodity Futures Trading Commission, Three Lafayette Centre, 21st Street, NW Washington, DC 20581. In addition, comments may be sent by facsimile transmission to facsimile number (202) 418-5521, or by electronic mail to secretary@cftc.gov. Reference should be made to the proposed amendments to the MGE durum wheat futures contract.

FOR FURTHER INFORMATION CONTACT: Please contact John Bird of the Division of Economic Analysis, Commodity Futures Trading Commission, Three Lafayette Centre, 21st Street NW, Washington, DC 20581, telephone (202) 418-5274. Facsimile number: (202) 418-5527. Electronic mail: jbird@cftc.gov

SUPPLEMENTARY INFORMATION: The futures contract currently calls for the delivery of durum wheat meeting specified quality requirements. These existing requirements, with one exception, meet or exceed the standards for U.S. grade No. 2 hard amber durum wheat. In addition, the contract sets forth standards for protein content, falling number, moisture content, dockage, and hard vitreous amber kernels which are not specified in the official U.S. standards for grain. The proposed amendments would make the contract's standards conform to the requirements for U.S. No. 2 hard amber durum wheat and would reduce the contract's standards for protein content, falling number, and hard vitreous kernels. The proposed and current quality specifications are shown in the table below.

Grade factor or quality standard | Current specification | Proposed specification
Minimum Test Weight | 60 lbs. per bushel | 58 lbs. per bushel
Maximum Heat Damaged Kernels | 0.2% | 0.2%
Maximum Total Damaged Kernels | 2.0% | 4.0%
Maximum Foreign Material | 1.0% | 0.7%
Maximum Shrunken and Broken Kernels | 3.0% | 5.0%
Maximum Total Defects | 5.0% | 5.0%
Maximum Total Other Classes | 2.0% | 2.0%
Minimum Protein Content | 13.0% (12% moisture basis) | 12.5%
Minimum Falling Number | 325 | 300
Maximum Moisture Content | 13.5% | 13.5%
Maximum Dockage | 1.5% | 1.5%
Minimum Hard Vireous Amber Kernels * * * | 85% | 80.0%

The MGE intends to apply the proposed amendments to existing contract months, commencing with the July 2000 contract month and to all newly listed contract months.

In support of the proposed amendments, the Exchange stated that:

[t]the purpose for amending the rule is to modify the deliverable Durum Wheat contract grade to more closely correspond to the standards for U.S. number 2 Hard Amber Durum Wheat. The Exchange believes the change in par commodity specifications is necessary to enhance participation and trade activity in the contract as well as to expand the available supply for delivery.

The Commission is requesting comments on the proposed amendments.

Copies of the proposed amendments will be available for inspection at the Office of the Secretariat, Commodity Futures Trading Commission, Three Lafayette Centre, 21st Street NW, Washington, DC 20581. Copies of the proposed amendments can be obtained through the Office of the Secretariat by mail at the above address, by phone at (202) 418-5100, or via the Internet at secretary@cftc.gov.

Other materials submitted by the Exchange in support of the proposal may be available upon request pursuant to the Freedom of Information Act (5 U.S.C. 552) and the Commission's regulations thereunder (17 CFR Part 145 (1987)), except to the extent they are entitled to confidential treatment as set forth in 17 CFR 145.5 and 145.9. Requests for copies of such materials should be made to the FOI, Privacy and Sunshine Act Compliance Staff of the Office of Secretariat at the Commission's headquarters in accordance with 17 CFR 145.7 and 145.8.

Any person interested in submitting written data, views, or arguments on the proposed amendments, or with respect to other materials submitted by the Exchange, should send such comments to Jean A. Webb, Secretary, Commodity Futures Trading Commission, Three Lafayette Centre, 21st Street NW, Washington, DC 20581 by the specified date.

Issued in Washington, DC, on February 7, 2000.
Richard Shilts,
Acting Director.

Bldg. 8449, Fort Polk

Property #:21199640539

Ft. Polk Co: Vernon Parish LA 71459-

Status: Underutilized

Comment: 2093 sq. ft., most recent use—office

[FR Doc. 00-3163 Filed 2-09-00; 8:45 am]

BILLING CODE 6351-01-M